DEPARTMENT OF THE TREASURY

Internal Revenue Service

Open Meeting of the Area 7 Taxpayer Advocacy Panel (Including the State of California)

ACTION: Notice.

SUMMARY: An open meeting of the Area 7 Taxpayer Advocacy Panel will be conducted in Fresno, California.

DATES: The meeting will be held Friday, March 7, 2003, and Saturday, March 8, 2003.

FOR FURTHER INFORMATION CONTACT: Mary O'Brien at 1-888-912-1227, or 206-220-6096.

SUPPLEMENTARY INFORMATION: Notice is hereby given pursuant to section 10(a)(2) of the Federal Advisory Committee Act, 5 U.S.C. App. (1988) that an open meeting of the Area 7 Taxpayer Advocacy Panel will be held Friday, March 7, 2003, from 1 p.m. p.s.t. to 4:30 p.m. p.s.t. at the Courtyard By Marriott located at 1551 N Peach Ave, Fresno, California and Saturday, March 8, 2003, from 11 a.m. p.s.t. to 2 p.m. p.s.t. at the Mosqueda Community Center located at 4670 E. Butler, Fresno, California. The public is invited to make oral comments on Saturday March 8, 2003. Individual comments will be limited to 5 minutes. If you would like to have the TAP consider a written statement, please call 1-888-912-1227 or 206-220-6096, or write to Mary O'Brien, TAP Office, 915 2nd Avenue, MS W-406, Seattle, WA 98174. Due to limited space, notification of intent to participate must be made with Mary O'Brien. Ms O'Brien can be reached at 1-888-912-1227 or 206-220-6096.

The agenda will include the following: various IRS issues.

Note: Last minute changes to the agenda are possible and could prevent effective advance notice.

Dated: February 24, 2003.
Deryle J. Temple,
Director, Taxpayer Advocacy Panel.

[FR Doc. 03-5170 Filed 2-28-03; 3:17 pm]

BILLING CODE 4830-01-P